MILLENNIUM CHALLENGE CORPORATION

[MCC FR 06-01]

Notice of the February 8, 2006 Millennium Challenge Corporation Board of Directors Meeting; Sunshine Act Meeting

AGENCY: Millennium Challenge Corporation.

Time and Date: 2 p.m. to 3:45 p.m., Wednesday, February 8, 2006.

Place: Department of State, 2201 C Street, NW., Washington, DC 20520.

FOR FURTHER INFORMATION CONTACT: Information on the meeting may be obtained from Joyce B. Lanham via e-mail at Board@mcc.gov or by telephone at (202) 521-3600.

Status: Meeting will be closed to the public.

Matters to be Considered: The Board of Directors (the “Board”) of the Millennium Challenge Corporation (“MCC”) will hold a meeting to discuss and consider Threshold Country Program submissions of two countries that are eligible for FY 2006 Millennium Challenge Account (“MCA”) assistance under section 616 of the Millennium Challenge Act of 2003 (the “Act”); an MCC Operations update; Compact development issues related to MCA-eligible countries; and certain administrative matters. The agenda items are expected to involve the consideration of classified information and will be closed to the public.

Dated: January 24, 2006.
Jon A. Dyck,
Vice President and General Counsel, Millennium Challenge Corporation.

[FR Doc. 06-785 Filed 1-24-06; 10:33 am]

BILLING CODE 9210-01-P